DEPARTMENT OF THE INTERIOR

Bureau of Land Management

[LLIDI002000.13300000.EO0000]

DEPARTMENT OF AGRICULTURE

Forest Service

Notice of Intent To Prepare an Environmental Impact Statement for the Proposed Panels F and G Lease and Mine Plan Modification Project at Smoky Canyon Mine, Caribou County, ID

AGENCIES: Bureau of Land Management, Interior; United States Forest Service, Agriculture.

ACTION: Notice of Intent.

SUMMARY: In compliance with the National Environmental Policy Act (NEPA) of 1969, the Federal Land Policy and Management Act (FLPMA) of 1976, and the Mineral Leasing Act of 1920, as amended, notice is hereby given that the U.S. Department of the Interior, Bureau of Land Management (BLM), Pocatello Field Office, and the U.S. Department of Agriculture, Forest Service (USFS), Caribou-Targhee National Forest (CTNF), will jointly prepare an environmental impact statement (EIS) to determine and analyze the effects of approving a proposed phosphate mine lease and mine plan modifications (the Proposed Action) on Federal mineral leases held by the J.R. Simplot Company (Simplot), in southeastern Idaho. The EIS will tier to the Final EIS prepared by the BLM and USFS for Panels F and G at Smoky Canyon Mine in 2007 and will consider the effects of the proposed lease and mine plan modifications.

DATES: To ensure that comments will be considered, the BLM must receive written comments on the scope of the analysis described in this notice by July 24, 2013. The BLM will announce future meetings and any other public involvement activities at least 15 days in advance through public notices, media news releases, and/or mailings.

ADDRESSES: Written comments may be submitted to: Panels F and G Lease and Mine Plan Modification Project EIS, C/O JBR Environmental, 8160 South Highland Drive, Sandy, Utah 84093, or via email at: blm_id_scm_panelsfg@blm.gov. Please reference “Panels F and G Lease and MinePlan Modification Project EIS” on all correspondence.

FOR FURTHER INFORMATION CONTACT: Diane Wheeler, Bureau of Land Management, Pocatello Field Office, 4350 Cliffs Drive, Pocatello, Idaho 83204, phone 208-557-5839. Scoping information will also be available at the BLM's Web site at: https://www.blm.gov/epl-front-office/eplanning/nepa/nepa_register.do, or the USFS Web site at: http://www.fs.usda.gov/projects/ctnf/landmanagement/projects. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM, as the Federal lease administrator, will serve as the lead agency and the USFS as the co-lead agency. The Idaho Department of Environmental Quality is a cooperating agency. Simplot has submitted lease and mine plan modifications for agency review for the existing Panel F (lease IDI-27512) and Panel G (lease IDI-01441) leases at the Smoky Canyon Phosphate Mine within the CTNF, in Caribou County, Idaho. The proposed project that the agencies are considering approving includes: (1) Construction of an ore conveyor system from Panel F to the existing mill to allow for more economic and efficient ore transport; and (2) expansion of a previously approved overburden disposal area (ODA) in order to accommodate the overburden generated from mining Panel G.

The Smoky Canyon Mine, operated by Simplot, is located approximately 10 air miles west of Afton, Wyoming, and approximately 8 miles west of the Idaho/Wyoming border. The existing Smoky Canyon mining and milling operations were authorized in 1982 by a mine plan approval issued by the BLM and special use authorizations issued by the USFS for off-lease activities, supported by the Smoky Canyon Mine Final EIS and Record of Decision (ROD). Mining operations began in Panel A in 1984 and have been continuing ever since with the mining of Panels A-E. In 2007, the BLM published a Final EIS and in 2008 RODs were issued approving the original mining and reclamation plan for Panels F and G (Final EIS and RODs available at: http://www.fs.fed.us/outernet/r4/caribou-targhee/phosphate/). Panel F is contiguous with the south end of the existing mine and Panel G is located approximately 1 mile southwest of Panel F. Mining activities associated with Panel F were initiated in 2008 and are ongoing. Mining activities associated with Panel G have been initiated through the early stages of haul road construction.

The proposed lease and mine plan modifications at Panels F and G of the Smoky Canyon Mine area would occur on Federal phosphate leases administered by the BLM situated on National Forest System (NFS) lands and on unleased parcels of NFS lands. The NFS lands involved lie within the Montpelier and Soda Springs Ranger Districts of the CTNF. The existing leases grant the lessee, Simplot in this case, exclusive rights to mine and otherwise dispose of the federally-owned phosphate deposit at the site.

Through development of this EIS, the BLM and the USFS will analyze environmental impacts of approving the proposed lease and mine plan modifications. Appropriate mitigation measures will also be formulated.

Agency Decisions: The BLM Idaho State Director or delegated official will approve, approve with modifications, or deny the proposed lease and mine plan modifications. The decision will be based on the EIS and any recommendations the USFS may have regarding surface management of leased NFS lands.

The USFS CTNF Supervisor will make recommendations to the BLM concerning surface management and mitigation on leased lands within the CTNF, and decisions on mine-related activities that occur off-lease within the CTNF. Special use authorizations from the USFS would be necessary for any off-lease structures located within the CTNF and associated with approval of the proposed lease and mine plan modifications by the BLM (e.g., portions of the ore conveyor system).

The applicable land use plans have been reviewed relative to the Proposed Action and at this time it is not anticipated that any amendments would be needed.

Background: Simplot submitted a proposal for lease and mine plan modifications for Panels F and G at the Smoky Canyon Mine in February 2013. The proposed modifications to Panel F are related to the construction and use of an ore conveyance system between Panel F and the existing mill. The proposed conveyance system would generally follow the existing haul road and would deviate only where engineering constraints dictate (i.e., too tight a corner on the road to construct the conveyor due to vertical and/or horizontal design limitations), such as at the north end of Panel F where Simplot is requesting a special use authorization to construct a portion of the ore conveyor off lease. Construction of the conveyor would eliminate the need to haul ore to the mill via haul trucks, although the haul road would remain open so that equipment can be transported to the shop for maintenance. The proposed 4.5-mile conveyor system would include a crusher and stockpile location on lease in Panel F.

There are three components to the proposed modification of Panel G: (1) Modification of lease IDI-01441 by 280 acres to accommodate the expansion of the previously approved east ODA; (2) increase in the on-lease disturbance area of the previously approved south ODA by 20 acres for the temporary storage of chert to be used for reclamation; and (3) utilization of a geo-synthetic clay laminate liner (GCLL) instead of the currently approved geologic cover over the in-pit backfill and the east external ODA. The current lease area for Panel G is not large enough to allow for maximum ore recovery and the necessary overburden disposal. The lease modification is necessary to accommodate all of the overburden generated from mining Panel G as analyzed in the Final EIS. At the time the RODs for the 2007 FEIS were issued, neither the BLM nor the USFS had the regulatory authority to approve Simplot's original plan for overburden storage. This is detailed in the RODs, which are available at http://www.fs.fed.us/outernet/r4/caribou-targhee/phosphate/. In 2009, the rules were modified giving the BLM authority to approve a lease modification for the purpose of overburden storage.

In an effort to mitigate for the increased footprint of the seleniferous ODA, Simplot is proposing to cover all seleniferous overburden in Panel G with a GCLL. They feel it is in the best interest of increased long-term environmental protection and may lend itself to a more expeditious review of the proposed modifications to the leases and mine plan. In addition, Simplot is proposing stormwater control features to address run-off from the proposed GCLL. It is estimated that up to 17 acres of new disturbance may be necessary for these stormwater features. Portions of these features could be situated on lease, within the proposed lease modification area, or off lease. Off-lease disturbance would require USFS special use authorization.

In total, approximately 160 acres are proposed for new disturbance. Compared to what was analyzed in the 2007 Final EIS, there would be an additional 10 acres disturbed for the ore conveyor system (mostly at the north end of Panel F); 20 acres for the Panel G south ODA expansion of temporary chert storage; up to 17 acres for storm water control features to address run-off from the GCLL at Panel G; and 113 acres for the Panel G east seleniferous ODA expansion.

The EIS will tier to the 2007 Final EIS previously prepared for mining at Panels F and G and approved in 2008 by BLM and USFS RODs. Preliminary issues related to the proposed project that have already been identified and will be addressed in the EIS include: (1) An increase in the amount of disturbance of approximately 160 acres, or approximately 12 percent over what was analyzed in the 2007 Final EIS; (2) potential impacts to groundwater quantity because of a decrease in recharge area to the Wells Formation due to the GCLL; (3) potential impacts to surface water quality after reclamation due to the reduced infiltration of the GCLL, potentially increasing peak streamflows which have the potential to increase channel instability and cause stream bank and stream bed erosion; and (4) an increase in the amount of disturbance of approximately 70 acres within the Sage Creek Inventoried Roadless Area (General Forest Theme), which is 6 percent over what was analyzed in the 2007 Final EIS.

The BLM and USFS will use the NEPA public participation requirements to assist the agency in satisfying public involvement under Section 106 of the National Historic Preservation Act (NHPA) (16 U.S.C. 470(f)) pursuant to 36 CFR 800.2(d)(3). The information about historic and cultural resources within the area potentially affected by the Proposed Action will assist in identifying and evaluating impacts to such resources in the context of both NEPA and Section 106 of the NHPA.

The BLM and USFS will consult with Indian tribes on a government-to-government basis in accordance with Executive Order 13175 and other policies. Tribal concerns, including impacts to treaty rights and potential impacts to cultural resources, will be given due consideration. Federal, State, and local agencies, along with tribes and other stakeholders that may be interested in or affected by the proposed project that is being evaluated, are invited to participate in the scoping process and, if eligible, may request or be requested by the BLM or USFS to participate in the development of the environmental analysis as a cooperating agency.

Alternatives and Schedule: At a minimum, the EIS will analyze the Proposed Action and the No Action Alternative. Under the No Action Alternative, the proposed modifications to the leases, operating plan, and special use authorizations will not be approved, and mining will continue under the currently authorized mine plan as approved by the 2008 RODs. Under the No Action Alternative, Simplot estimates that approximately 50 percent of the phosphate ore in Panel G, previously considered economically recoverable, would not be mined but the overall disturbance would remain the same. In addition, the proposed conveyor system would not be approved, thus no new disturbance associated with the conveyor would occur. The previously approved geologic cover would be used to limit or prevent the potential release of contaminants to the environment. Other alternatives may be considered that could provide mitigation of potential impacts.

The tentative EIS project schedule is as follows:

• Begin public scoping period and meetings: Spring/Summer 2013.

• Release draft EIS and associated comment period: Fall/Winter 2013.

• Final EIS publication: Summer 2014.

• Record of Decision: Summer/Fall 2014.

Scoping Procedure: The scoping procedure to be used for this EIS will involve notification in the Federal Register; a mailing to interested and potentially affected individuals, groups, Federal, State, and local government entities requesting input by way of comments, issues and concerns; news releases or legal notices; and public scoping meetings.

Before including your address, phone number, email address, or other personal identifying information in your comment, you should be aware that your entire comment—including your personal identifying information—may be made publicly available at any time. While you can ask us in your comment to withhold your personal identifying information from public review, we cannot guarantee that we will be able to do so. Comments will be available for public review at the BLM address listed above during regular business hours (8 a.m. to 4 p.m.), Monday through Friday, except Federal holidays.

The BLM and the USFS are seeking information and written comments concerning the Proposed Action from Federal, State, Tribal, and local agencies, individuals, and organizations interested in, or affected by the Proposed Action or the No Action Alternative. To assist the BLM and the USFS in identifying issues and concerns related to the Proposed Action, scoping comments should be as specific as possible. This proposed project is subject to the objection process pursuant to 36 CFR part 218 subparts A and B. Only those who provide comment or otherwise express interest in the Proposed Action either during scoping or other designated opportunity for public comment will be eligible as objectors (36 CFR 218.5).

At least three “open-house” style public scoping meetings will be held which will include displays explaining the project and a forum for asking questions and commenting on the project. Meetings are planned to be held in Pocatello and Fort Hall, Idaho, and Afton, Wyoming. The dates, times, and locations of the public scoping meetings will be announced in mailings and public notices issued by the BLM.

Authority: 42 U.S.C. 4321 et seq.; 40 CFR Parts 1500-1508; 43 CFR Part 46; 43 U.S.C. 1701; and 43 CFR Part 3590.

Dated: April 30, 2013.
Joe Kraayenbrink,
District Manager, Idaho Falls District, Bureau of Land Management.
Brent Larson,
Forest Supervisor, Caribou-Targhee National Forest.

[FR Doc. 2013-14983 Filed 6-21-13; 8:45 am]

BILLING CODE 4310-GG-P